NUCLEAR REGULATORY COMMISSION

[Docket No.: 070-3035]

Consideration of License Amendment Request for the Babcock and Wilcox Facility and Shallow Land Disposal Area in Parks Township, PA, and Opportunity for a Hearing

AGENCY: Nuclear Regulatory Commission.

ACTION: Notice of consideration of license amendment requests for the Babcock and Wilcox Facility and Shallow Land Disposal Area in Parks Township, Pennsylvania , and Opportunity for a Hearing.

The U.S. Nuclear Regulatory Commission (NRC) is considering issuance of a license amendment to Special Nuclear Material License No. SNM-2001 (SNM-2001) (the license), issued to Babcock and Wilcox Company, Pennsylvania Nuclear Service Operation, to authorize amending condition 14, “Schedule for Decommissioning Site”, of its SNM-2001 License at its Shallow Land Disposal Area (SLDA) facility in Parks Township, Pennsylvania.

SLDA site is on the NRC's Site Decommissioning Management Plan and the site is being assessed by the U.S. Army Corps of Engineers (USACE) for possible remediation under the Formerly Utilized Sites Remedial Action Program (FUSRAP). SLDA has been designated as a FUSRAP site. USACE is responsible for administration and execution of FUSRAP.

The licensee has requested an Alternate Schedule for Decommissioning Plan (DP) submittal due to issues arising from USACE involvement at the SLDA site. The licensee's current DP submittal schedule for SLDA is in accordance with the conditions discussed in SNM-414 License.

On May 8, 2001, the licensee submitted a license amendment request proposing that the licensee will submit a site DP six months after the issuance of the Final USACE Preliminary Assessment (PA) if the PA determines that no further action under Comprehensive, Environmental Response, and Liability, Act of 1980, as amended (CERCLA) and FUSRAP is recommended for SLDA. Alternatively, licensee will submit a request for license suspension within sixty days of the USACE's Record of Decision to remediate the SLDA under CERCLA if the PA determines that the SLDA is recommended for further action under CERCLA and FUSRAP.

The NRC hereby provides notice that this is a proceeding on request for amendment of a license falling within the scope of Subpart L “Informal Hearing Procedures for Adjudication in Materials Licensing Proceedings”, of NRC's rules and practice for domestic licensing proceedings in 10 CFR Part 2. Pursuant to section 2.1205(a), any person whose interest may be affected by this proceeding may file a request for a hearing in accordance with Section 2.1205(c). A request for a hearing must be filed within thirty (30) days of the date of publication of this Federal Register notice.

The request for a hearing must be filed with the Office of the Secretary either:

1. By delivery to the Docketing and Service Branch of the Secretary at One White Flint North, 11555 Rockville Pike, Rockville, MD 20852-2738; or

2. By mail or telegram addressed to the Secretary, U.S. Nuclear Regulatory Commission, Washington, DC 20555. Attention: Docketing and Service Branch.

In addition to meeting other applicable requirements of 10 CFR Part 2 of the NRC's regulations, a request for a hearing filed by a person other than an applicant must describe in detail:

1. The interest of the requester in the proceeding;

2. How that interest may be affected by the results of the proceeding, including the reasons why the requester should be permitted a hearing, with particular reference to the factors set out in Section 2.1205(g);

3. The requester's area of concern about the licensing activity that is the subject matter of the proceeding; and

4. The circumstances establishing that the request for a hearing is timely in accordance with Section 2.1205(c).

In accordance with 10 CFR 2.1205(e), each request for a hearing must also be served by delivering it personally or by mail, to:

1. The applicant, Babcock and Wilcox Company, R.D. 1, Box 355, Vandergrift, PA 15690, Attention Mr. Richard M. Bartosik; and

2. The NRC staff, by delivery to the Executive Director for Operations, One White Flint North, 11555 Rockville Pike, Rockville, MD 20852-2738, or by mail to the Executive Director for Operations, U.S. Nuclear Regulatory Commission, Washington, DC 20555.

For further details with respect to this action, the licensee request and plans are available for inspection at the NRC's Public Document Room, One White Flint North, 11555 Rockville Pike, Rockville, MD, 20852-2738.

Dated at Rockville, Maryland, this 18th Day of May, 2001.
For the Nuclear Regulatory Commission
Robert A. Nelson,
Acting Chief, Decommissioning Branch, Division of Waste Management, Office of Nuclear Material Safety and Safeguards.

[FR Doc. 01-13256 Filed 5-24-01; 8:45 am]

BILLING CODE 7590-01-P